DEPARTMENT OF LABOR

Office of the Secretary

Submission for OMB Review: Comment Request

April 27, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have particular utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Rehabilitation Plan and Award.

OMB Number: 1215-0067.

Form Number: OWCP-16.

Frequency: On occasion.

Type of Response: Reporting.

Affected Public: Business and other for-profit and Individuals or households.

Number of Respondents: 7,000.

Annual Responses: 7,000.

Average Response Time: 30 minutes.

Total Annual Burden Hours: 3,500.

Total Annualized capital/startup costs: $0.

Total Annual Costs (operating/maintaining systems or purchasing services): $0.

Description: The Office of Workers' Compensation Programs (OWCP) is the agency responsible for administration of the Longshore and Harbor Workers' Compensation Act; 33 U.S.C. 901 et seq., and the Federal Employees' Compensation Act, 5 U.S.C. 8101 et seq. Both of these Acts authorize OWCP to pay for approved vocational rehabilitation services to eligible workers with work-related disabilities. OWCP must receive the signatures of the worker and the rehabilitation counselor to show that the worker agrees to follow the proposed plan, and that the proposed plan is appropriate. The OWCP-16 is the standard format for the collection of information needed to approve proposed vocational rehabilitation services. Form OWCP-16 serves to document the agreed upon plan for rehabilitation services submitted by the injured worker and vocational rehabilitation counselor, the costs involved, and OWCP's award of payment from funds provided for rehabilitation. Form OWCP-16 summarizes the costs of the rehabilitation plan to enable OWCP to make a prompt decision on funding.

Agency: Employment Standards Administration.

Type of Review: Extension of currently approved collection.

Title: Report of Changes That May Affect Your Black Lung Benefits.

OMB Number: 1215-0084.

Form Number: CM-929.

Frequency: Biannually.

Type of Response: Reporting.

Affected Public: Individuals or households.

Number of Respondents: 51,000.

Annual Responses: 51,000.

Average Response Time: 5 to 8 minutes.

Total Annual Burden Hours: 4,505.

Total Annualized Capital/Startup Costs: $0.

Total Annual Costs (operating/maintaining systems or purchasing services): $0.

Description: The Federal Mine Safety and Health Act of 1977 as amended, 30 U.S.C. 941, and 20 CFR 725.533(e) authorizes the Division of Coal Mine Workers' Compensation to pay compensation to coal miner beneficiaries. Once a miner or survivor is found eligible for benefits, the primary beneficiary is requested to report certain changes that may affect black lung benefits. The CM-929 is used to help determine continuing eligibility of primary beneficiaries receiving black lung benefits from the Black Lung Disability Trust Fund. The CM-929 is completed by the beneficiary to report factors that may affect his or her benefits, including income, marital status, receipt of state workers' compensation and dependents' status.

Agency: Employment Standards Administration.

Type of Review: Extension of currently approved collection.

Title: Housing Occupancy Certificate—Migrant and Seasonal Agricultural Worker Protection Act.

OMB Number: 1215-0158.

Form Number: WH-520.

Frequency: On occasion.

Type of Response: Reporting; Recordkeeping; and Third party disclosure.

Affected Public: Farms and Business or other for-profit.

Number of Respondents: 300.

Annual Responses: 300.

Average Response Time: 3 minutes to complete the form and 1 minute to post a certification.

Total Annual Burden Hours: 20.

Total Annualized Capital/Startup Costs: $0.

Total Annual Costs (operating/maintaining systems or purchasing services): $0.

Description: Section 203(b)(1) of the Migrant and Seasonal Agricultural Worker Protection Act, 29 U.S.C. 1801, et seq., and Regulation 29 CFR 500.135(b) provide that any person who owns or controls a facility or real property to be used for housing migrant agricultural workers shall not permit such housing to be occupied by any worker unless a copy of the certificate of occupancy from the state, local, or federal agency that conducted the housing safety and health inspection is posted at the site of the facility or real property. Form WH-520 is both an information gathering form and the certificate of occupancy that the DOL issues when it is the federal agency conducting the safety and health inspection.

Ira L. Mills,
Departmental Clearance Officer.

[FR Doc. 05-8847 Filed 5-3-05; 8:45 am]

BILLING CODE 4510-23-M